DEPARTMENT OF DEFENSE

Department of the Army; Corps of Engineers

Notice of Availability of the Draft Environmental Impact Statement (DEIS) and the Announcement of a Public Hearing for the Proposed Potash Corporation of Saskatchewan Phosphate Mine Continuation Near Aurora, in Beaufort County, NC

AGENCY: Department of the Army, U.S. Army Corps of Engineers, DoD.

ACTION: Notice.

SUMMARY: The U.S. Army Corps of Engineers (COE), Wilmington District, Regulatory Division has been reviewing the request for Department of the Army authorization, pursuant to Section 404 of the Clean Water Act and Section 10 of the Rivers and Harbor Act, from Potash Corporation of Saskatchewan Phosphate Division (PCS) for the continuation of its phosphate mining operation near Aurora, Beaufort County, NC. PCS proposes to expand its existing open pit phosphate mining operation into a 3,412 acre tract immediately adjacent to the current mine. This expansion would impact 2,408 acres of waters of the U.S. including wetlands adjacent to the Pamlico River and South Creek.

DATES: A Public Hearing will be held at Southside High School located at 5700 Highway 33 East, Chocowinity, Beaufort County, NC on December 14, 2006 at 6:30 p.m. Written comments on the Draft EIS will be received until January 22, 2007.

ADDRESSES: Copies of comments and questions regarding the Draft EIS may be addressed to: U.S. Army Corps of Engineers, Wilmington District, Regulatory Division. Attn: File Number 2001-10096, Post Office Box 1890, Wilmington, NC 28402-1890. Copies of the Draft EIS can be reviewed on the Wilmington District Regulatory homepage at, http://www.saw.usace.army.mil/wetlands/regtour.htm, or contact Ms. Alex Phodes at (910) 251-4633, to receive written or CD copies of the Draft EIS.

FOR FURTHER INFORMATION CONTACT: Questions about the proposed action and DEIS can be directed to Mr. Tom Walker, Project Manager, Regulatory Division, telephone: (828) 271-7980 extension 222.

SUPPLEMENTARY INFORMATION: 1. Project Description. The PCS Phosphate, Inc. Aurora (PCS) facility includes an open pit mining operation that supplies phosphate ore to its onsite manufacturing facilities producing sulfuric acid, phosphoric acid, purified acid, liquid fertilizer, superphosphoric acid, diammonium phosphate, defluoinated phosphate, animal feed and solid fertilizers. Phosphate mining activities began at this site in 1965. On August 27, 1997, PCS was issued a Department of the Army permit to impact 1,268 acres of waters and wetlands to continue its mining operation into the current mine area. This action is more fully described in the August, 1996 Final Environmental Impact Statement for the Texasgulf Inc. Mine Continuation. PCS is nearing the end of the current mining area and is seeking to continue its mining operation into an adjacent 3,608 acre tract.

2. Proposed Action. On November 2, 2000, PCS applied for Department of the Army authorization pursuant to Section 404 of the Clean Water Act and Section 10 of the Rivers and Harbors Act to continue its phosphate mining operation on the Hickory Point peninsula adjacent the Pamlico River and South Creek once reserves are depleted under the existing permitted area. The applicant's stated purpose and need for this project is to continue mining its phosphate reserve in an economically viable fashion. More specifically, the applicant's stated purpose and need is to implement a long-term systematic and cost-effective mine advance within the project area for the ongoing PCS mine operation at Aurora, NC.

The Corps circulated a Public Notice describing this application on January 2, 2001 (Action ID No. 200110096). PCS elected to further reduce proposed impacts to waters of the U.S. in response to comments on this Public Notice and submitted a revised permit application on August 13, 2001. The Corps circulated a second Public Notice on October 4, 2001, describing the revised applicaiton. The proposed action includes a request for authorization to impact approximately 2,408 acres of waters of the U.S. including wetlands to continue the mine advance into a 3,412 acre area located adjacent the Pamlico River and several of its tributaries. Waters and wetlands in the proposed impact area are more specifically described in the following table:

Proposed Impacts | Acres
1. Creeks/Open Water | 11
2. Brackish Marsh Complex | 38
3. Bottomland Hardwood Forest | 102
4. Herbaceous Assemblage | 253
5. Scrub-Shrub Assemblage | 202
6. Pine Plantation | 514
7. Hardwood Forest | 508
8. Mixed Pine-Hardwood Forest | 564
9. Pine Forest | 195
10. Ponds | 19
Total | 2,408

4. Alternatives. Several alternatives have been identified and evaluated through the scoping process, and further detailed description of all alternatives is disclosed in Section 2 of the Draft EIS. The applicant's preferred alternatives is to continue its mining activity into a 3,412 acre tract located immediately adjacent to the present mine.

5. Scoping Process. A public scoping meeting was held on February 28, 2001 and an interdisciplinary Review Team (Review Team) comprised of representatives from other state and federal regulatory and commenting agencies, environmental advocacy groups, the applicant, and CZR Incorporated (CZR) (third party consultant to the Corps in accordance with RGL-05-08). The Review Team was formed to identify major issues to be addressed in the EIS and to provide input on potential alternatives to be explored and potentially evaluated. As appropriate, the COE will initiate consultation with the U.S. Fish and Wildlife Service under the Endangered Species Act and the Fish and Wildlife Coordination Act, and with the National Marine Fisheries Service under the Magnuson-Stevens Act and Endangered Species Act. The Corps is coordinating with the North Carolina Division of Water Quality (NCDWQ) to ensure the Draft EIS has assessed the potential water quality impacts pursuant to Section 401 of the Clean Water Act and with the North Carolina Division of Coastal Management (NCDCM) to determine the project's consistency with the Coastal Zone Management Act. The Corps is also coordinating with the NCDCM and NCDWQ in the development of the EIS to ensure the process complies with State Environmental Policy Act (SEPA) requirements, as well as the NEPA requirements. The Draft EIS has been designed to consolidate both NEPA and SEPA processes to eliminate duplications.

Dated: October 12, 2006.
John E. Pulliam, Jr.,
Colonel, U.S. Army, District Commander.

[FR Doc. 06-8812 Filed 10-19-06; 8:45 am]

BILLING CODE 3710-GN-M